DEPARTMENT OF ENERGY

Federal Energy Regulatory Commission

[Docket No. CP15-558-000]

PennEast Pipeline Company, LLC; Notice of Availability of the Draft Environmental Impact Statement for the Proposed Penneast Pipeline Project

The staff of the Federal Energy Regulatory Commission (FERC or Commission) has prepared a draft environmental impact statement (EIS) for the PennEast Pipeline Project, proposed by PennEast Pipeline Company, LLC (PennEast) in the above-referenced docket. PennEast requests authorization to construct and operate a 118.8-mile-long pipeline to provide 1.1 million dekatherms per day (MMDth/d) of year-round natural gas transportation service from northern Pennsylvania to markets in eastern Pennsylvania, New Jersey, and surrounding states.

The draft EIS assesses the potential environmental effects of the construction and operation of the PennEast Pipeline Project in accordance with the requirements of the National Environmental Policy Act (NEPA). The FERC staff concludes that approval of the proposed project, with the mitigation measures recommended in the EIS, would result in some adverse environmental impacts, but impacts would be reduced to less-than-significant levels with the implementation of PennEast's proposed and FERC staff recommended mitigation measures. This determination is based on a review of the information provided by PennEast and further developed from data requests; field investigations; scoping; literature research; alternatives analysis; and contacts with federal, state, and local agencies as well as Indian tribes and individual members of the public.

The U.S. Environmental Protection Agency, U.S. Army Corps of Engineers, U.S. Fish and Wildlife Service, U.S. Department of Agriculture, Natural Resource Conservation Service, and U.S. Department of Transportation's Pipeline and Hazardous Materials Safety Administration participated as cooperating agencies in the preparation of the EIS. Cooperating agencies have jurisdiction by law or special expertise with respect to resources potentially affected by the proposal and participate in the NEPA analysis. Although these agencies provided input to the conclusions and recommendations presented in the draft EIS, the agencies will present their own conclusions and recommendations in any respective record of decision or determination for the Project.

The draft EIS addresses the potential environmental effects of the construction and operation of the following project facilities:

• 115.1 miles of new, 36-inch-diameter pipeline extending from Luzerne County, Pennsylvania to Mercer County, New Jersey (77 miles in Pennsylvania and 38 miles in New Jersey);

• the 2.1-mile Hellertown Lateral consisting of 24-inch-diameter pipe in Northampton County, Pennsylvania;

• the 0.1-mile Gilbert Lateral consisting of 12-inch-diameter pipe in Hunterdon County, New Jersey;

• the 1.5-mile Lambertville Lateral consisting of 36-inch-diameter pipe in Hunterdon County, New Jersey;

• new, 47,700 total hp Kidder Compressor Station in Kidder Township, Carbon County, Pennsylvania; and

• associated aboveground facilities including eight metering and regulating stations for interconnections, 11 main line valve sites, and four pig launcher/receiver sites.

The FERC staff mailed copies of the draft EIS to federal, state, and local government representatives and agencies; elected officials; environmental and public interest groups; Native American tribes; potentially affected landowners and other interested individuals and groups; and newspapers and libraries in the project area. Paper copy versions of this EIS (Volume I in paper copy, Volumes II and III on CD) were mailed to those specifically requesting them; all others received a CD version of the entire document. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before September 12, 2016.

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (CP15-558-000) with your submission: Kimberly D. Bose, Secretary, Federal Energy Regulatory Commission, 888 First Street NE., Room 1A, Washington, DC 20426;

(4) In lieu of sending written or electronic comments, the Commission invites you to attend one of the public comment meetings its staff will conduct in the project area to receive comments on the draft EIS. To ensure interested parties have ample opportunity to attend a public comment meeting six meetings are scheduled as follows:

Date and time | Location
Monday, August 15, 2016 6-10 p.m. | Best Western Lehigh Valley & Conference Center, 300 Gateway Drive, Bethlehem, PA 18017, Phone: 610-866-5800.
Monday, August 15, 2016 6-10 p.m. | Penn's Peak, 325 Maury Road, Jim Thorpe, PA 18229, Phone: 610-826-9000.
Tuesday, August 16, 2016 6-10 p.m. | Grand Colonial, 86 Route 173 West, Hampton, NJ 08827, Phone: 908-735-7889.
Tuesday, August 16, 2016 6-10 p.m. | Peddler's Village, (Lahaska and Neshaminy Rooms), Routes 202 & 263, Lahaska, PA 19831, Phone: 215-794-4000.
Wednesday, August 17, 2016 6-10 p.m. | Best Western Genetti Hotel & Conference Center, 77 E Market Street, Wilkes-Barre, PA 18701, Phone: 570-823-6152.
Wednesday, August 17, 2016 6-10 p.m. | Clifford B. Memorial Hall, 1666 Pennington Road, Ewing, NJ 08618, Phone: 609-882-3221.

The meetings will be scheduled from 6:00 p.m. to 10:00 p.m. There will not be a formal presentation by Commission staff. The primary goal will be to have your verbal environmental comments on the draft EIS documented in the public record. Verbal comments will be recorded by stenographers in one-on-one settings, and transcriptions will be placed into the docket for the project and made available for public viewing on FERC's eLibrary system (see below for instructions on using eLibrary). If a significant number of people are interested in providing verbal comments in the one-on-one settings, a time limit of 3 to 5 minutes may be implemented for each commenter. It is important to note that verbal comments hold the same weight as written or electronically submitted comments. Although there will not be a formal presentation, Commission staff will be available throughout the meetings to answer your questions about the environmental review process.

Any person seeking to become a party to the proceeding must file a motion to intervene pursuant to Rule 214 of the Commission's Rules of Practice and Procedures (18 CFR part 385.214).¹ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

¹ See the previous discussion on the methods for filing comments.

Questions?

Additional information about the project is available from the Commission's Office of External Affairs, at (866) 208-FERC, or on the FERC Web site (www.ferc.gov) using the eLibrary link. Click on the eLibrary link, click on “General Search,” and enter the docket number excluding the last three digits in the Docket Number field (i.e., CP15-558-000). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: July 22, 2016.
Kimberly D. Bose,
Secretary.

[FR Doc. 2016-18038 Filed 7-28-16; 8:45 am]

BILLING CODE 6717-01-P